SMALL BUSINESS ADMINISTRATION

[Disaster Declaration #20831 and #20832; VIRGIN ISLANDS Disaster Number VI-20000]

Presidential Declaration of a Major Disaster for Public Assistance Only for the U.S. Virgin Islands

AGENCY: U.S. Small Business Administration.

ACTION: Notice.

SUMMARY: This is a Notice of the Presidential declaration of a major disaster for Public Assistance Only for the U.S. Virgin Islands (FEMA-4841-DR), dated October 25, 2024.

Incident: Tropical Storm Ernesto.

DATES: Issued on October 25, 2024.

Incident Period: August 13, 2024 through Aught 16, 2024.

Physical Loan Application Deadline Date: December 24, 2024.

Economic Injury (EIDL) Loan Application Deadline Date: July 25, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: Notice is hereby given that as a result of the President's major disaster declaration on October 25, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Areas: Saint Croix, Saint John, Saint Thomas, and Water Island.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 208318 and for economic injury is 208320.

(Catalog of Federal Domestic Assistance Number 59008)

Alejandro Contreras,
Acting Deputy Associate Administrator, Office of Disaster Recovery & Resilience.

[FR Doc. 2024-26182 Filed 11-8-24; 8:45 am]

BILLING CODE 8026-09-P